DEPARTMENT OF AGRICULTURE

Food and Nutrition Service

Agency Information Collection Activities: Proposed collection; Comment Request—Evaluation of the Nebraska Rural Area Eligibility Determination for Day Care Homes Pilot

AGENCY: Food and Nutrition Service, USDA.

ACTION: Notice.

SUMMARY: In accordance with the Paperwork Reduction Act of 1995, the Food and Nutrition Service (FNS) invites the general public and other public agencies to comment on this proposed information collection.

This notice announces FNS' intent to request from the Office of Management and Budget (OMB) approval to collect information for the evaluation of impacts of the Rural Area Eligibility Determination for Day Care Homes Pilot in Nebraska.

DATES: Written comments must be received on or before April 30, 2007.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Dr. John A. Kirlin, Contracting Officer's Representative, Food and Nutrition Service, U.S. Department of Agriculture, 3101 Park Center Drive, Alexandria, VA 22302. Comments may also be submitted via fax to the attention of John A. Kirlin at 703-305-2576 or via e-mail to John.Kirlin@fns.usda.gov.

All responses to this notice will be summarized and included in the request for OMB approval. All comments will be a matter of public record.

FOR FURTHER INFORMATION CONTACT: Requests for additional information or copies of this information collection should be directed to John A. Kirlin at 703-305-2128.

SUPPLEMENTARY INFORMATION: Title: Evaluation of the Nebraska Rural Area Eligibility Determination for Day Care Homes Pilot.

OMB Number: Not Yet Assigned.

Expiration Date: Not yet determined.

Type of Request: New collection of information.

Abstract: As authorized by Public Law 108-265 (Section 119 of the Child Nutrition and WIC Reauthorization Act of 2004), which amended Section 17 of the Richard B. Russell National School Lunch Act, 42 U.S.C. 1766 (p), the Food and Nutrition Service (FNS), on behalf of the Secretary of Agriculture, is evaluating the impacts of the Rural Area Eligibility Determination for Day Care Homes pilot in Nebraska. The two-year pilot expands the threshold for determining eligibility for the Child and Adult Care Food Program (CACFP) in rural areas of Nebraska where poor economic conditions exist. The State of Nebraska is authorized by this legislation to use either school data (on the percent of students qualifying for free or reduced-price school lunches) or census data to determine the eligibility threshold for higher (tier I) reimbursement rates. During the two-year pilot, the area eligibility threshold is reduced from the current criterion (50 percent of students qualifying for free or reduced-price school lunches) to 40 percent, thereby letting more areas qualify for higher reimbursement rates. The pilot runs from October 1, 2005 through September 30, 2007.

The evaluation of the pilot will examine the impact of the reduced area eligibility threshold on: (1) The number of family day care homes offering meals through the CACFP in rural areas; (2) the number of family day care homes offering meals as a tier I entity, that would otherwise be defined as tier II family day care home under program regulations; (3) the geographic location of the family day care homes; (4) a description of services provided to eligible children; and (5) other factors determined by the Secretary. The evaluation will collect information from CACFP staff at the Nebraska Department of Education, from CACFP sponsor agencies in the state, from family day care providers, and from parents of children in family day care homes. Two surveys will be conducted: A survey of a random sample of family day care providers (Provider Survey); and a survey of a random sample of providers who drop out of the CACFP program after the pilot ends and reimbursement levels for some providers decrease (Exit Survey). A report of the results of the evaluation is due to Congress no later than March 31, 2008.

Affected Public: Two respondent groups are identified: (1) A random sample of all rural family day care providers in Nebraska who participate in the CACFP at the time of the planned survey (Summer 2007), and (2) a random sample of all rural family day care providers in Nebraska who exit the CACFP program after the end of the pilot.

Estimated Number of Respondents: 632. The estimated number of respondents to the Provider Survey is 582. The estimated number of respondents to the Exit Survey is uncertain because the number of exiting providers is unknown. The evaluation contractor will survey up to 50 respondents as part of the Exit Survey.

Estimated Number of Responses per Respondent: The number of responses per respondent is one for each of the two surveys. Because both surveys will contact random samples of the family day care community in rural areas of Nebraska, however, it is possible that some exiting providers who are contacted for the second survey may also have responded to the first survey. If the probability of exiting is equally distributed across the approximately 1,350 rural providers in Nebraska, and if at least 50 rural providers leave the CACFP program after the pilot ends, the a priori likelihood of a provider being sampled for both surveys is approximately 1.6 percent (i.e., about a 43 percent chance of being selected for the Provider Survey times about a 3.7 percent chance of being selected for the Exit Survey).

Estimated Total Annual Responses: 632.

Estimated Time per Response: 38.4 minutes (0.64 hours). The estimated average time to respond to the Provider Survey is 40 minutes (0.67 hours), based on a pre-test of the draft instrument in December 2006 and subsequent revisions based on pre-test results. The data collection instrument for the Exit Survey cannot be pre-tested because the pilot will not end until September 30, 2007. The Exit Survey instrument shares many questions with the Provider Survey instrument, however, and the pre-test results for the Provider Survey are used to estimate average response time for the Exit Survey, which is 20 minutes (0.33 hours).

Estimated Total Annual Burden on Respondents: 405 hours.

Dated: February 16, 2007.
Roberto Salazar,
Administrator, Food and Nutrition Service.

[FR Doc. E7-3309 Filed 2-26-07; 8:45 am]

BILLING CODE 3410-30-P